DEPARTMENT OF ENERGY

Federal Energy Regulatory Commission

[Docket No. RP03-388-001]

Eastern Shore Natural Gas Company; Notice of Compliance Filing

July 9, 2003.

Take notice that on July 3, 2003 Eastern Shore Natural Gas Company (Eastern Shore) tendered as part of its FERC Gas Tariff, Second Revised Volume No. 1, the tariff sheets listed on Appendix A to the filing, effective July 1, 2003.

Eastern Shore states that the substitute revised tariff sheets are being submitted in compliance with the Commission's Letter Order issued June 27, 2003. The Commission's order directed Eastern Shore to file within twenty (20) days of such date revised tariff sheets which: (a) Reference Recommendation R02002 when incorporating by reference NAESB Standards 5.3.41, 5.3.42, and 5.3.46; (b) reference both Version 1.6 and Recommendations R02002 and R02002-2 when incorporating by reference NAESB Standards 1.4.4, 5.4.1, 5.4.3, 5.4.4, 5.4.7, and 5.4.9;

(c) refer to the NAESB assigned standard numbers when including standard 5.3.46 by reference; and (d) incorporate by reference standards 5.4.20 through 5.4.22.

Eastern Shore states that copies of its filing has been mailed to its customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17884 Filed 7-15-03; 8:45 am]

BILLING CODE 6717-01-P